DEPARTMENT OF LABOR

[Employment and Training Administration]

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 26, 2009.

Interested persons are invited to submit written comments regarding the subject matter of the investigations to the Director, Division of Trade Adjustment Assistance, at the address shown below, not later than June 26, 2009.

The petitions filed in this case are available for inspection at the Office of the Director, Division of Trade Adjustment Assistance, Employment and Training Administration, U.S. Department of Labor, Room N-5428, 200 Constitution Avenue, NW., Washington, DC 20210.

Signed at Washington, DC, this 14th day of May 2009.
Linda G. Poole,
Certifying Officer, Division of Trade Adjustment Assistance.

Appendix
TAA petitions instituted between 5/4/09 and 5/8/09
TA-W | Subject firm (petitioners) | Location | Date of institution | Date of petition
65876 | Magneti Marelli Powertrain USA, LLC (Comp) | Sanford, NC | 05/04/09 | 04/30/09
65877 | Albion Associates, Inc. (Wkrs) | High Point, NC | 05/04/09 | 04/19/09
65878 | BGF Industries (Wkrs) | Altavista, VA | 05/04/09 | 04/27/09
65879 | In-Zone Athletic Wear (Comp) | Fyffe, AL | 05/04/09 | 05/02/09
65880 | Carpenter Company (Wkrs) | Cookeville, TN | 05/04/09 | 05/01/09
65881 | Scotty's Fashions (Union) | Lehighton, PA | 05/04/09 | 05/01/09
65882 | Belcher-Robinson Foundry (Comp) | Alexander City, AL | 05/04/09 | 03/30/09
65883 | Muth Mirror Systems (Wkrs) | Sheboygan, WI | 05/05/09 | 05/01/09
65884 | Progressive Stamping Company (Comp) | Royal Oak, MI | 05/05/09 | 05/04/09
65885 | Morgan AM&T (IUE) | Couder Sport, PA | 05/05/09 | 05/04/09
65886 | BG Labs (Comp) | Binghamton, NY | 05/05/09 | 04/17/09
65887 | Fuel Systems, Inc. (Wkrs) | Chicago, IL | 05/05/09 | 04/30/09
65888 | Collins Ink Corp. (Wkrs) | Cincinnati, OH | 05/05/09 | 04/22/09
65889 | Cooper Tire and Rubber Company (Wkrs) | Findlay, OH | 05/06/09 | 05/06/09
65890 | Automatic Machine Product (Wkrs) | Corinth, MS | 05/06/09 | 05/01/09
65891 | Springs Global US Inc. (Comp) | Sardis, MS | 05/06/09 | 05/05/09
65892 | Specmo Enterprises, Inc. (State) | Madison Heights, MI | 05/06/09 | 04/06/09
65893 | St. Onge Logging, Inc. (Comp) | Kalispell, MT | 05/06/09 | 05/05/09
65894 | Symantec Corporation (Wkrs) | Springfield, OR | 05/06/09 | 05/05/09
65895 | Clarion Sintered Metals (IAM) | Ridgway, PA | 05/06/09 | 04/26/09
65896 | North River Boats (Wkrs) | Roseburg, OR | 05/06/09 | 04/09/09
65897 | Mipox International (Comp) | Hayward, CA | 05/06/09 | 05/05/09
65898 | American and Efird, Inc. (Wkrs) | Mount Holly, NC | 05/07/09 | 05/01/09
65899 | John Maneely Company (Wheatland Tube Co.) (USWA) | Sharon, PA | 05/07/09 | 05/05/09
65900 | Biederlack of America Corporation (Comp) | Cumberland, MD | 05/07/09 | 05/05/09
65901 | VWR International, LLC (State) | West Chester, PA | 05/07/09 | 04/29/09
65902 | Noranda Aluminum, Inc. (USW) | New Madrid, MO | 05/07/09 | 05/06/09
65903 | Mountain Skyliners, Inc. (Wkrs) | Leavenworth, WA | 05/08/09 | 05/06/09
65904 | Grand Rapids Controls (State) | Rockford, MI | 05/08/09 | 04/08/09
65905 | Umicore Autocat USA, Inc. (UAW) | Catoosa, OK | 05/08/09 | 05/07/09
65906 | Arrow Electronics (Wkrs) | Melville, NY | 05/08/09 | 04/18/09

[FR Doc. E9-14062 Filed 6-15-09; 8:45 am]

BILLING CODE 4510-FN-P